DEPARTMENT OF AGRICULTURE

Submission for OMB Review; Comment Request

May 21, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if they are received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of Demonstration Projects to End Childhood Hunger.

OMB Control Number: 0584-NEW.

Summary of Collection: The Healthy, Hunger-Free Kids Act (HHFKA) of 2010 (Pub. L. 111-296), Congress added a new Section [42 U.S.C. 179d] to develop and evaluate innovative strategies to “reduce the risk of childhood hunger or provide a significant improvement to the food security status of households with children.” This section mandates research on the causes and consequences of childhood hunger and the testing of innovative strategies to end childhood hunger and food insecurity.

Need and Use of the Information: The Food and Nutrition Service (FNS) will use the information gathered in the data collection activities to describe the five demonstration projects; to determine if the demonstration projects reduced food insecurity among children or households food insecurity for households with children; and to compare the relative effectiveness and cost-efficiency of the demonstration project across sites. The data being collected is necessary to meet the congressionally mandated requirement. Without the information, FNS will not be able to produce the required annual Report to Congress.

Description of Respondents: Individuals or households; Not-for-profit institutions; State, Local, or Tribal Government.

Number of Respondents: 22,593.

Frequency of Responses: Recordkeeping; Reporting: Annually.

Total Burden Hours: 32,144.

Ruth Brown,
Departmental Information Collection Clearance Officer.

[FR Doc. 2015-12818 Filed 5-27-15; 8:45 am]

BILLING CODE 3410-30-P